DEPARTMENT OF TRANSPORTATION

Federal Highway Administration

Environmental Impact Statement: Travis County, TX

AGENCY: Federal Highway Administration (FHWA), DOT.

ACTION: Notice of Intent.

SUMMARY: The FHWA is issuing this notice to advise the public that an environmental impact statement (EIS) will be prepared for a proposed new location highway/tollway project in Travis County, Texas.

FOR FURTHER INFORMATION CONTACT: Mr. Patrick Bauer, P.E., District Engineer, Federal Highway Administration, 826 Federal Office Building, 300 E. 8th Street, Austin, Texas 78701, telephone number (512) 536-5950 or Ms. Stacey Benningfield, Environmental Program Manager, Texas Turnpike Authority Division, Texas Department of Transportation, 125 E. 11th Street, Austin, Texas 78701, telephone number (512) 225-1351.

SUPPLEMENTARY INFORMATION: The FHWA, in cooperation with the Texas Turnpike Authority Division (TTA) of the Texas Department of Transportation, will prepare an EIS for proposed State Highway 45, between Interstate Highway 35, south of Austin, Texas, and proposed State Highway 130/existing US Highway 183, southeast of Austin in Travis County, Texas. As currently envisioned, proposed SH 45 would ultimately be a six-lane controlled access roadway with directions of travel being separated by a barrier or median. Interchanges or grade separations would be constructed at major thoroughfares and direct connector ramps would be provided at IH 35 and State Highway 130/US Highway 183. The proposed right-of-way width would be 400′ (usual minimum) and the project length would be approximately 7 miles. Alternatives to be addressed in the EIS include (1) upgrading existing roadways, (2) new location alternatives and (3) the no-build alternative. The proposed project is considered necessary in order to provide for existing and projected traffic demand in the project area.

The proposed project is considered a candidate for development as a toll road. Accordingly, in conjunction with preparation of the EIS, TTA will conduct a study to determine the feasibility of constructing the proposed facility as a toll road and financing it, in whole or in part, through the issuance of revenue bonds. Impacts owing to the possible toll designation will be addressed in the EIS.

Letters describing the proposed action and soliciting comments will be sent to appropriate Federal, State, and local agencies; and to private organizations, citizens and residents who have previously expressed or are known to have an interest in this proposal.

It is anticipated that the project would be constructed in phases, with the initial (interim) phase(s) being of smaller scale (fewer lanes) than the ultimate facility.

To ensure that the full range of issues related to this proposed action are addressed, and all significant issues identified, comments and suggestions are invited from all interested parties. On Thursday, August 22, 2002, the TTA will conduct a public scoping meeting on the proposed SH 45 project. The meeting will be held at Popham Elementary School, 7014 Elroy Road, Del Valle, Texas. The purpose of the public meeting will be to receive comments and identify issues to be considered during development of route alternative and preparation of the EIS. Verbal and written comments may be submitted at the meeting or written comments may be submitted via regular postal mail to the FHWA or TTA at the addresses provided above. To be included in the official record of the public meeting, comments must be received by Tuesday, September 3, 2002. The meeting will begin at 6 p.m. with a one-hour “open house”. During the open house displays showing the project area and other project information will be available for review and staff from the TTA will be available to answer questions. At 7 p.m. there will be a presentation followed by a public comment period. All interested citizens are encouraged to attend this meeting.

Persons who have special communication or accommodation needs, and who plan to attend the public meeting are asked to contact Stacey Benningfield (512/225-1351) at least two business days prior to the meeting so that accommodations may be made.

(Catalog of Federal Domestic Assistance Program Number 20.205, Highway Planning and Construction. The regulations implementing Executive Order 12372 regarding intergovernmental consultation on Federal programs and activities apply to this program.)

Issued on: July 11, 2002.
Antonio Palacios,
Urban Engineer.

[FR Doc. 02-18329 Filed 7-19-02; 8:45 am]

BILLING CODE 4910-22-M